DEPARTMENT OF ENERGY

[OE Docket No. EA-431-A]

Application To Export Electric Energy; Tenaska Power Services Co.

AGENCY: Office of Electricity, Department of Energy.

ACTION: Notice of application.

SUMMARY: Tenaska Power Services Co. (Applicant or TPS) has applied for authorization to transmit electric energy from the United States to Mexico pursuant to the Federal Power Act.

DATES: Comments, protests, or motions to intervene must be submitted on or before February 28, 2022.

ADDRESSES: Comments, protests, motions to intervene, or requests for more information should be addressed by electronic mail to Electricity.Exports@hq.doe.gov, or by facsimile to (202) 586-8008.

FOR FURTHER INFORMATION CONTACT: Matt Aronoff, 202-586-5863, matthew.aronoff@hq.doe.gov.

SUPPLEMENTARY INFORMATION: The Department of Energy (DOE) regulates exports of electricity from the United States to a foreign country, pursuant to sections 301(b) and 402(f) of the Department of Energy Organization Act (42 U.S.C. 7151(b) and 42 U.S.C. 7172(f)). Such exports require authorization under section 202(e) of the Federal Power Act (FPA) (16 U.S.C. 824a(e)).

On November 3, 2021, TPS filed an application with DOE (Application or App.) “for renewal of its blanket authorization to transmit electric energy from the United States to Mexico for a period of five years.” App. at 1. TPS states that it “is authorized to do business in the State of Nebraska and such other states as required by the current nature of its business,” adding that it “is a power marketer authorized by the Federal Energy Regulatory Commission (FERC) to make sales of electric power at wholesale in interstate commerce at market-based rates.” Id. TPS represents that it “does not own or control any transmission facilities and does not have a franchised service area.” Id.

TPS further claims that it would “purchase the electricity that it may export, on either a firm or an interruptible basis, from wholesale generators, electric utilities, federal power marketing agencies and affiliates through negotiated agreements that have been voluntarily executed by the selling parties after considering their own need for any such electricity.” App. at 3. TPS contends that its “proposed electricity exports will not impair or tend to impede the sufficiency of electric power supplies in the United States or the regional coordination of electric utility planning or operations.” App. at 3-4.

TPS applied to renew the authorization granted in DOE Order No. EA-431, which expired on January 26, 2022. Due to an unexpected delay in processing the renewal application, DOE has not yet evaluated whether the application satisfies the requirements of FPA section 202(e). TPS has requested expedited treatment of its application, to avoid any continued lapse in its export authority and to minimize the disruption to its electricity trade. TPS has also indicated that it has not engaged in the export of electricity since its authorization expired and will not do so unless and until it receives an Order granting renewal of its export authority in this proceeding. In response to TPS's request for expedited treatment, DOE has shortened the public comment period to 15 days.

The existing international transmission facilities to be utilized by the Applicant have previously been authorized by Presidential permits issued pursuant to Executive Order 10485, as amended, and are appropriate for open access transmission by third parties.

Procedural Matters: Any person desiring to be heard in this proceeding should file a comment or protest to the Application at the address provided above. Protests should be filed in accordance with Rule 211 of the FERC Rules of Practice and Procedure (18 CFR 385.211). Any person desiring to become a party to this proceeding should file a motion to intervene at the above address in accordance with FERC Rule 214 (18 CFR 385.214).

Comments and other filings concerning TPS's application to export electric energy to Canada should be clearly marked with OE Docket No. EA-431-A. Additional copies are to be provided directly to Norma Rosner Iacovo, 300 East John Carpenter Freeway, Suite 100, Irving, TX 75062, niacovo@tnsk.com; and Neil L. Levy, 500 North Capitol Street NW, Washington, DC 20001, nlevy@mwe.com.

A final decision will be made on the requested authorization after the environmental impacts have been evaluated pursuant to DOE's National Environmental Policy Act Implementing Procedures (10 CFR part 1021) and after DOE evaluates whether the proposed action will have an adverse impact on the sufficiency of supply or reliability of the U.S. electric power supply system.

Copies of the Application will be made available, upon request, by accessing the program website at https://energy.gov/node/11845, or by emailing Matt Aronoff at matthew.aronoff@hq.doe.gov.

Signed in Washington, DC, on February 8, 2022.
Christopher Lawrence,
Management and Program Analyst, Electricity Delivery Division, Office of Electricity.

[FR Doc. 2022-02970 Filed 2-10-22; 8:45 am]

BILLING CODE 6450-01-P